DEPARTMENT OF HEALTH AND HUMAN SERVICES

Centers for Medicare & Medicaid Services

[Document Identifier: CMS-10360 and CMS-10106]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Consumer Research on Public Reporting of Hospital Outpatient Measures; Use: One of the primary missions of CMS is to improve the quality and efficiency of care in the Fee-for-Service (FFS) program. One of the several vehicles used for this mission is the public reporting of quality, efficiency and cost information about hospital care on the Hospital Compare Web site. This vehicle also serves to provide Medicare beneficiaries and other consumers with the type of data needed to make informed decisions about which providers to use for their care.

In 2001, the Department of Health and Human Services (DHHS) announced the Quality Initiative to ensure the quality of health care for all Americans through accountability and public disclosure. The goals of the initiative are to empower consumers with quality-of-care information so they can make more informed decisions about their health care and to stimulate and support providers and clinicians to improve the quality of health care. As part of the DHHS Transparency Initiative on Quality Reporting, CMS plans to add new patient safety measures in the areas of hospital acquired conditions and healthcare associated infections, to the Hospital Compare Web site in 2011. CMS also intends to begin utilizing displays of composite measures summarizing both process and outcome measures. This information collection request covers consumer research on displays, labels, and explanatory language to insure that the Web site is understood by viewers in a manner consistent with CMS's intended communication message. Form Number: CMS-10360 (OMB#: 0938-New); Frequency: Once; Affected Public: Individuals and Households; Number of Respondents: 248; Total Annual Responses: 248; Total Annual Hours: 241. (For policy questions regarding this collection contact David Miranda at 410-786-7819. For all other issues call 410-786-1326.)

2. Type of Information Collection Request: Revision of currently approved collection; Title of Information Collection: Medicare Authorization to Disclose Personal Health Information; Use: Unless permitted or required by law, the Health Insurance Portability and Accountability Act (HIPAA) prohibits Medicare (a HIPAA covered entity) from disclosing an individual's protected health information without a valid authorization. In order to be valid, an authorization must include specified core elements and statements. Medicare will make available to Medicare beneficiaries a standard, valid authorization to enable beneficiaries to request the disclosure of their protected health information. This standard authorization will simplify the process of requesting information disclosure for beneficiaries and minimize the response time for Medicare. The completed authorization will allow Medicare to disclose an individual's personal health information to a third party at the individual's request. Form Number: CMS-10106 (OMB#: 0938-0930); Frequency: Reporting—On occasion; Affected Public: Individuals or households; Number of Respondents: 1,004,000; Total Annual Responses: 1,004,000; Total Annual Hours: 251,000. (For policy questions regarding this collection contact Lindsay Dixon-Brown at 410-786-1178. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by January 18, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: November 12, 2010.
Michelle Shortt,
Director, Regulations Development Group, Office of Strategic Operations and Regulatory Affairs.

[FR Doc. 2010-29076 Filed 11-18-10; 8:45 am]

BILLING CODE 4120-01-P